DEPARTMENT OF HOUSING AND URBAN DEVELOPMENT

[Docket No. FR-5687-N-25]

Notice of Proposed Information Collection: Comment Request; Condominium Project Approval Document Collection

AGENCY: Office of the Assistant Secretary for Housing, HUD.

ACTION: Notice.

SUMMARY: The proposed information collection requirement described below will be submitted to the Office of Management and Budget (OMB) for review, as required by the Paperwork Reduction Act. HUD is soliciting public comments on the subject proposal.

DATES: Comments Due Date: July 30, 2013.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Information Service (1-800-877-8339).

FOR FURTHER INFORMATION CONTACT: Karin B. Hill, Director, Office of Single Family Program Development, Department of Housing and Urban Development, 451 7th Street SW., Washington, DC 20410, telephone (202) 708-2121 (this is not a toll free number) for copies of the proposed forms and other available information.

SUPPLEMENTARY INFORMATION: HUD is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Condominium Project Approval Document Collection.

OMB Control Number, if applicable: 2502-New.

Description of the need for the information and proposed use: The Housing and Economic Recovery Act of 2008 (HERA) moves the insurance of a single unit condominium from Section 234 to Section 203 of the National Housing Act (NHA). This change requires that HUD establish new regulations for condominium project and unit approval. To approve a project and/or insure a unit within an FHA-approved project, certain documentation and data are required for review and approval or denial. Currently, a collection specific to condominium project and unit approval does not exist. Therefore, establishment of a specific collection item is appropriate. Further, the information collected will be used for performance, risk, trend and other analyses.

Agency form numbers, if applicable: HUD-92541; HUD-935.2; HUD-93201; HUD-92544.

Estimation of the total numbers of hours needed to prepare the information collection including number of respondents, frequency of response, and hours of response: The number of burden hours is 45,000. The number of respondents is 30,000, the number of responses is 15,000, the frequency of response is on occasion, and the burden hour per response is 3.

Status of the proposed information collection: This is a new collection.

Authority: The Paperwork Reduction Act of 1995, 44 U.S.C., Chapter 35, as amended.

Dated: May 23, 2013.
Laura M. Marin,
Acting General Deputy Assistant Secretary for Housing-Acting General Deputy, Federal Housing Commissioner.

[FR Doc. 2013-12933 Filed 5-30-13; 8:45 am]

BILLING CODE 4210-67-P